DEPARTMENT OF HOMELAND SECURITY

Coast Guard

33 CFR Part 117

[Docket No. USCG-2011-0581]

Drawbridge Operation Regulation; Gulf Intracoastal Waterway, Near Hackberry, LA

AGENCY: Coast Guard, DHS.

ACTION: Notice of temporary deviation from regulations.

SUMMARY: The Commander, Eighth Coast Guard District, has issued a temporary deviation from the regulation governing the operation of the SR 27 (Ellender Ferry) vertical lift bridge across the Gulf Intracoastal Waterway, mile 243.8 west of Harvey Lock, near Hackberry, Calcasieu Parish, Louisiana. This deviation is necessary to perform electrical component upgrades and repair work on the bridge. This deviation allows the bridge to remain closed to navigation for nine consecutive hours daily Monday through Friday for four weeks.

DATES: This deviation is effective from 8 a.m. on Monday, August 8, 2011 through 5 p.m. on Friday, September 2, 2011.

ADDRESSES: Documents mentioned in this preamble as being available in the docket are part of docket USCG-2011-0581 and are available online by going to http://www.regulations.gov, inserting USCG-2011-0581 in the “Keyword” box and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Donna Gagliano, Bridge Administration Branch, Coast Guard; telephone 504-671-2128 or e-mail Donna.Gagliano@uscg.mil. If you have questions on viewing the docket, call Renee V. Wright, Program Manager, Docket Operations, telephone 202-366-9826.

SUPPLEMENTARY INFORMATION: The Louisiana Department of Transportation and Development has requested a temporary deviation in order to perform electrical component upgrades and repair work from the operating schedule for the vertical lift bridge on the SR 27 (Ellender Ferry) across the Gulf Intracoastal Waterway, mile 243.8, west of Harvey Locks, near Hackberry, Calcasieu Parish, Louisiana. The bridge provides 50 feet of vertical clearance above Mean High Water, NGVD 29, in the closed-to-navigation position. Currently, according to 33 CFR 117.451(e), the draw of the bridge shall open on signal when more than 50 feet vertical clearance is required, if at least four-hour notice is given to the Louisiana Department of Highways, District Maintenance Engineer, at Lake Charles.

The closure is necessary to perform electrical component upgrades and repair work on the bridge that allows the bridge to be raised. This maintenance is essential for the continued operation of the bridge. Notices will be published in the Eighth Coast Guard District Local Notice to Mariners and will be broadcast via the Coast Guard Broadcast Notice to Mariners System.

Navigation on the waterway consists of tugs with tows, fishing vessels, sailing vessels, and other recreational craft. The Coast Guard has coordinated the closure with waterway users, industry, and other Coast Guard units. Vessels that can pass under the bridge in the closed-to-navigation position can do so anytime. There are no alternate routes. The bridge will not be able to open for emergencies.

In accordance with 33 CFR 117.35(e), the drawbridge must return to its regular operating schedule immediately at the end of the designated time period. This deviation from the operating regulations is authorized under 33 CFR 117.35.

Dated: June 20, 2011.
David M. Frank,
Bridge Administrator.

[FR Doc. 2011-17259 Filed 7-8-11; 8:45 am]

BILLING CODE 9110-04-P